DEPARTMENT OF THE INTERIOR

Bureau of Land Management

[ES-020-1610-DG]

Planning Analysis, Arkansas

AGENCY: Bureau of Land Management (BLM), Interior.

ACTION: Notice of rescheduled public meeting/request for public input.

SUMMARY: Notice of a public meeting, scheduled for January 27, 2000, was published in Federal Register on December 28, 1999. Due to a winter storm, the meeting is rescheduled. The purpose of the meeting is to receive additional public input for a Planning Analysis of public land in Arkansas.

DATES: The rescheduled public meeting will be held 6:30 to 9:30 p.m., February 24, 2000 at the Civic Center Gymnasium in Marshall Arkansas which is located in Searcy County.

FOR FURTHER INFORMATION CONTACT: Duane Winters or Judy Pace, BLM, Jackson Field Office, 411 Briarwood Drive, Suite 404, Jackson, MS 39206, (601) 977-5400.

Dated: January 26, 2000.
Duane Winters,
Acting Field Manager, Jackson.

[FR Doc. 00-2081 Filed 1-31-00; 8:45am]

BILLING CODE 4310-CJ-M